DEPARTMENT OF HEALTH AND HUMAN SERVICES

Health Resources and Services Administration

Advisory Committee; Notice of Meetings Addendum

In Federal Register Document 00-26024 appearing on pages 60446-60447 in the issue for Wednesday, October 11, 2000, the following meetings for the Health Professions and Nurse Education Special Emphasis Panel have been added:

Name: Residencies in the Practice of Pediatric Dentistry and Residencies and Advanced Training in the Practice of General Dentistry Peer Review Group.

Date and Time: May 7-10, 2001.

Place: Holiday Inn Silver Spring, 8777 Georgia Avenue, Silver Spring, MD 20910.

Open on: May 7, 2001, 8 a.m. to 10 a.m.

Closed on: May 7, 2001, 10 a.m. to 6 p.m., May 8-10, 2001, 8 a.m. to 6 p.m.

Name: Faculty Leadership in Interprofessional Education to Promote Patient Safety Peer Review Group.

Date and Time: July 9-12, 2001.

Place: Holiday Inn Silver Spring, 8777 Georgia Avenue, Silver Spring, MD 20910.

Open on: July 9, 2001, 8 a.m. to 10 a.m.

Closed on: July 9, 2001, 10 a.m. to 6 p.m., July 10-12, 2001, 8 a.m. to 6 p.m.

Name: Collaborative Interdisciplinary Education for Safe Practices for Patient Care Peer Review Group.

Date and Time: July 9-12, 2001.

Place: Holiday Inn Silver Spring, 8777 Georgia Avenue, Silver Spring, MD 20910.

Open on: July 9, 2001, 8 a.m. to 10 a.m.

Closed on: July 9, 2001, 10 a.m. to 6 p.m., July 10-12, 2001, 8 a.m. to 6 p.m.

Name: Regional Centers for Health Workforce Studies Peer Review Group.

Date and Time: July 16-19, 2001.

Place: Holiday Inn Silver Spring, 8777 Georgia Avenue, Silver Spring, MD 20910.

Open on: July 16, 2001, 8 a.m. to 10 a.m.

Closed on: July 16, 2001, 10 a.m. to 6 p.m., July 17-19, 2001, 8 a.m. to 6 p.m.

Name: Interdisciplinary Podogeriatric Program Peer Review Group.

Date and Time: July 16-19, 2001.

Place: Holiday Inn Silver Spring, 8777 Georgia Avenue, Silver Spring, MD 20910.

Open on: July 16, 2001, 8 a.m. to 10 a.m.

Closed on: July 16, 2001, 10 a.m. to 6 p.m., July 17-19, 2001, 8 a.m. to 6 p.m.

Name: Interdisciplinary Faculty Development in Genetics Peer Review Group.

Date and Time: July 23-26, 2001.

Place: Holiday Inn Silver Spring, 8777 Georgia Avenue, Silver Spring, MD 20910.

Open on: July 23, 2001, 8 a.m. to 10 a.m.

Closed on: July 23, 2001, 10 a.m. to 6 p.m., July 24-26, 2001, 8 a.m. to 6 p.m.

Name: Resident Policy Electives Program Peer Review Group.

Date and Time: July 23-26, 2001.

Place: Holiday Inn Silver Spring, 8777 Georgia Avenue, Silver Spring, MD 20910.

Open on: July 23, 2001, 8 a.m. to 10 a.m.

Closed on: July 23, 2001, 10 a.m. to 6 p.m., July 24-26, 2001, 8 a.m. to 6 p.m.

Name: Primary Care and Oral Health Peer Review Group.

Date and Time: July 30-August 2, 2001.

Place: Holiday Inn Silver Spring, 8777 Georgia Avenue, Silver Spring, MD 20910.

Open on: July 30, 2001, 8 a.m. to 10 a.m.

Closed on: July 30, 2001, 10 a.m. to 6 p.m., July 31-August 2, 2001, 8 a.m. to 6 p.m.

Name: Adoption Awareness Training Peer Review Group.

Date and Time: August 6-9, 2001.

Place: Holiday Inn Silver Spring, 8777 Georgia Avenue, Silver Spring, MD 20910.

Open on: August 6, 2001, 8 a.m. to 10 a.m.

Closed on: August 6, 2001, 10 a.m. to 6 p.m., August 7-9, 2001, 8 a.m. to 6 p.m.

Dated: March 30, 2001.
Jane M. Harrison,
Director, Division of Policy Review and Coordination.

[FR Doc. 01-8308 Filed 4-4-01; 8:45 am]

BILLING CODE 4160-15-P